DEPARTMENT OF JUSTICE

Antitrust Division

Notice Pursuant to the National Cooperative Research and Production Act of 1993—American Camping Association, Inc.

Notice is hererby given that, on September 17, 2004, pursuant to section 6(a) of the National Cooperative Research and Production Act of 1993, 15 U.S.C. 4301 et seq. (“the Act”), American Camping Association, Inc. (“ACA”) has filed written notification simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: American Camping Association, Inc., Martinsville, IN. The nature and scope of ACA's standards development activities are: To develop, promulgate, revise, amend, reissue, interpret, or otherwise maintain voluntary consensus standards related to youth camps, camp programs, and camp services, and use such standards in conformity assessment activities.

Dorothy B. Fountain,
Deputy Director of Operations, Antitrust Division.

[FR Doc. 04-23526 Filed 10-20-04; 8:45 am]

BILLING CODE 4410-11-M